DEPARTMENT OF VETERANS AFFAIRS

[OMB Control No. 2900-0747]

Agency Information Collection (Fully Developed Claims) (Applications for Compensation; Applications for Pension; Applications for DIC, Death Pension, and/or Accrued Benefits): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before February 28, 2013.

ADDRESSES: Submit written comments on the collection of information through www.Regulations.gov or to VA's OMB Desk Officer, OMB Human Resources and Housing Branch, New Executive Office Building, Room 10235, Washington, DC 20503 (202) 395-7316. Please refer to “OMB Control No. 2900-0747” in any correspondence.

FOR FURTHER INFORMATION CONTACT: Crystal Rennie, Enterprise Records Service (005R1B), Department of Veterans Affairs, 810 Vermont Avenue NW., Washington, DC 20420, (202) 632-7492, FAX (202) 632-7583 or email crystal.rennie@va.gov. Please refer to “OMB Control No. 2900-0747.”

SUPPLEMENTARY INFORMATION:

Titles: Fully Developed Claims (Applications for Compensation, 21-526EZ; Applications for Pension, VA Form 21-527EZ; and Applications for DIC, Death Pension, and/or Accrued Benefits, VA Form 21-534EZ.

OMB Control Number: 2900-0747.

Type of Review: Extension of a currently approved collection.

Abstract: VA Forms 21-526EZ, 21-527EZ and 21-534EZ will be used to process a claim within 90 days after receipt from a claimant. Claimants are required to sign and date the certification, certifying as of the signed date, no additional information or evidence is available or needs to be submitted in order to adjudicate the claim.

An agency may not conduct or sponsor, and a person is not required to respond to a collection of information unless it displays a currently valid OMB control number. The Federal Register Notice with a 60-day comment period soliciting comments on this collection of information was published on October 19, 2012, at pages 64389-64390.

Affected Public: Individuals or Households.

Estimated Annual Burden: 43,516 hours.

Estimated Average Burden per Respondent: 25 minutes.

Frequency of Response: One time.

Estimated Number of Respondents: 104,440.

Dated: January 24, 2013.
By direction of the Secretary.
William F. Russo,
Deputy Director, Office of Regulations Policy and Management, Office of General Counsel, Department of Veterans Affairs.

[FR Doc. 2013-01812 Filed 1-28-13; 8:45 am]

BILLING CODE 8320-01-P